INTERNATIONAL TRADE COMMISSION

[Investigation No. TA-421-7]

Certain Passenger Vehicle and Light Truck Tires From China

AGENCY: United States International Trade Commission.

ACTION: Institution and scheduling of a hearing.

SUMMARY: Following receipt of a petition filed on April 20, 2009, on behalf of the United Steel, Paper and Forestry, Rubber, Manufacturing, Energy, Allied Industrial and Service Workers International Union, the Commission instituted investigation No. TA-421-7 under section 421(b) of the Trade Act of 1974 (19 U.S.C. 2451(b)) to determine whether new pneumatic tires, of rubber, from China, of a kind used on motor cars (except racing cars) and on-the-highway light trucks, vans, and sport utility vehicles, provided for in subheadings 4011.10.10, 4011.10.50, 4011.20.10, and 4011.20.50 of the Harmonized Tariff Schedule of the United States (HTS), are being imported into the United States in such increased quantities or under such conditions as to cause or threaten to cause market disruption to the domestic producers of like or directly competitive products.¹

¹ The HTS subheadings are provided for convenience and customs purposes; the written description of the product under investigation is dispositive.

DATES: Not later than seven days following the publication of this notice in the Federal Register: Deadline for filing entries of appearance.

May 26, 2009: Deadline for filing request to appear at the public hearing.

May 28, 2009: Deadline for filing prehearing briefs.

June 2-3, 2009: Public hearing.

June 8, 2009: Deadline for filing posthearing briefs.

June 16, 2009: Deadline for submitting final comments on market disruption.

June 19, 2009: Transmittal of Commission determination on market disruption to the President and the U.S. Trade Representative.

June 24, 2009: Deadline for submitting final comments on remedy.

July 9, 2009: Transmittal of Commission report to the President and the U.S. Trade Representative.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Nathanael Comly (202-205-3174), or Amy Sherman (202-205-3289), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION: Participation in the investigation and service list.—Persons wishing to participate in the investigation as parties must file an entry of appearance with the Secretary to the Commission, as provided in section 201.11 of the Commission's rules, not later than seven days after publication of this notice in the Federal Register. The Secretary will prepare a service list containing the names and addresses of all persons, or their representatives, who are parties to this investigation upon the expiration of the period for filing entries of appearance.

Confidential business information (CBI).—Any submissions that contain confidential business information must also conform with the requirements of sections 201.6 and 206.8 of the Commission's Rules of Practice and Procedure (19 CFR 201.6 and 206.8). Section 201.6 of the rules requires that the cover of the document and the individual pages be clearly marked as to whether they are the “confidential” or “non-confidential” version, and that the confidential business information be clearly identified by means of brackets. All written submissions, except for confidential business information and except as provided for below, will be made available for inspection by interested parties.

Limited disclosure of CBI.—Pursuant to section 206.47 of the Commission's rules, the Secretary will make CBI gathered in this investigation available to authorized applicants under an Administrative Protective Order (APO) issued in the investigation, provided that the application is made not later than seven days after the publication of this notice in the Federal Register. A separate service list will be maintained by the Secretary for those parties authorized to receive CBI under the APO. In addition, the Commission may include CBI in the report it sends to the President and to the U.S. Trade Representative.

Hearing.—The Commission has scheduled a hearing in connection with this investigation beginning at 9:30 a.m. on June 2, 2009, at the U.S. International Trade Commission Building. Subjects related to both market disruption or threat thereof and remedy may be addressed at the hearing. Requests to appear at the hearing should be filed in writing with the Secretary on or before May 26, 2009. All persons desiring to appear at the hearing and make oral presentations should attend a prehearing conference to be held at 9:30 a.m. on May 28, 2009 at the U.S. International Trade Commission Building. Oral testimony and written materials to be submitted at the hearing are governed by sections 201.6(b)(2) and 201.13(f) of the Commission's rules.

Written submissions.—Each party is encouraged to submit a prehearing brief to the Commission. The deadline for filing prehearing briefs is May 28, 2009. Parties may also file posthearing briefs. The deadline for filing posthearing briefs is June 8, 2009. In addition, any person who has not entered an appearance as a party to the investigation may submit a written statement of information pertinent to the consideration of market disruption or threat thereof and/or remedy on or before June 8, 2009. Parties may submit final comments on market disruption on or before June 16, 2009 and on remedy on or before June 24, 2009. Final comments shall contain no more than ten (10) double-spaced and single-sided pages of textual material. All written submissions must conform with the provisions of section 201.8 of the Commission's rules; any submissions that contain confidential business information must also conform with the requirements of section 201.6 of the Commission's rules. The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

In accordance with section 201.16(c) of the Commission's rules, each document filed by a party to the investigation must be served on all other parties to the investigation (as identified by the service list), and a certificate of service must be timely filed. The Secretary will not accept a document for filing without a certificate of service.

Remedy.—No separate hearing on the issue of remedy will be held. Those parties wishing to present arguments on the issue of remedy may do so orally at the hearing or in their prehearing or posthearing briefs or other written submissions.

Authority: This investigation is being conducted under the authority of section 421 of the Trade Act of 1974; this notice is published pursuant to section 206.3 of the Commission's rules.

By order of the Commission.
Marilyn R. Abbott,
Secretary to the Commission.
Issued: April 24, 2009.
William R. Bishop,
Acting Secretary to the Commission.

[FR Doc. E9-9760 Filed 4-28-09; 8:45 am]

BILLING CODE P